DEPARTMENT OF ENERGY

Federal Energy Regulatory Commission

[Project No. 2142-031]

FPL Energy Maine Hydro, LLC; Notice of Extension of Deadline for Filing Additional Study Requests, Settlement Agreement Progress Meeting, Public Information Meeting, and Site Visit for the Indian Pond Hydroelectric Project No. 2142-031

September 1, 2000.

On August 24, 2000, FPL Energy Maine Hydro LLC, on behalf of the Indian Pond Hydroelectric Project (FERC No. 2142-031) Settlement Team, filed a request with the Commission to extend the September 14, 2000, due date for additional study requests. At this time, we grant an additional 30 days and so all additional study requests subsequent to our Notice of Application Tendered for Filing with the Commission and Soliciting Additional Study Requests dated January 11, 2000, must be filed with the Commission no later than October 16, 2000.

Because this is the fifth request to extend the additional study request due date, Commission staff have requested a meeting with the Indian Pond Hydroelectric Project Settlement Team to discuss progress on the settlement discussions. Therefore, on September 27, 2000, Commission staff will meet with the Settlement Team at 9 a.m. at the Best Western Senator Inn (Embassy Room), located at 284 Western Avenue, Augusta, Maine (interstate 95, exit 30). Discussions among Commission staff and the Settlement Team will include, but not be limited to, an overview of progress on the settlement discussions and scheduling of the relicensing proceeding.

On September 28, between 7 and 9 p.m., Commission staff will hold a public information meeting to discuss scheduling of the Indian Pond Hydroelectric Project relicensing proceeding and to answer questions concerning relicensing the project. This meeting will be held at the Northern Outdoors Outdoor Center, located on Route 201 in The Forks, Maine.

On September 28 and 29, Commission staff will conduct a site visit of the Indian Pond Hydroelectric Project to include the following: (1) September 28—floating the Kennebec River (Harris Dam to The Forks) to view downstream areas affected by the project; and (2) September 29—inspection of the Indian Pond Hydroelectric Project facilities and reservoir. The float trip on September 28 will originate from the Harris Dam river access at 10 a.m. and the inspection of project facilities on September 29 will originate at 8 a.m. at the Harris Dam office/store (see attached map).

All interested individuals, organizations, and agencies are invited to attend the meetings and site visit. Please direct any questions regarding the meetings and site visit to Kevin Whalen, FERC coordinator for the Indian Pond Hydroelectric Project, at (202) 219-2790. Logistical constraints associated with site access necessitate that all individuals wishing to attend the site visit contact Robert Richter, FPL Maine Hydro LLC, at (202) 771-3536, or Kevin Whalen at the number above. All participants are responsible for their own transportation to the site.

Linwood A. Watson, Jr.,
Acting Secretary.

[FR Doc. 00-23061 Filed 9-7-00; 8:45 am]

BILLING CODE 6717-01-M